DEPARTMENT OF THE INTERIOR

National Park Service

[NPS-WASO-NAGPRA-20784; PPWOCRADN0-PCU00RP14.R50000]

Notice of Inventory Completion: Utah Museum of Natural History, Salt Lake City, UT

AGENCY: National Park Service, Interior.

ACTION: Notice.

SUMMARY: The Utah Museum of Natural History has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Utah Museum of Natural History. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Utah Museum of Natural History at the address in this notice by May 25, 2016.

ADDRESSES: Dr. Lisbeth Louderback, Utah Museum of Natural History, 301 Wakara Way, Salt Lake City, UT 84108, telephone (801) 585-2634, email llouderback@nhmu.utah.edu.

SUPPLEMENTARY INFORMATION: Notice is here given in accordance with the Native American Graves Protection and Repatriation Act (NAGPRA), 25 U.S.C. 3003, of the completion of an inventory of human remains under the control of the Utah Museum of Natural History, Salt Lake City, UT. The human remains were removed from Fillmore, Millard County, Utah.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Utah Museum of Natural History professional staff in consultation with representatives of the Confederated Tribes of the Goshute Reservation, Nevada and Utah; Northwestern Band of Shoshoni Nation of Utah (Washakie); Paiute Indian Tribe of Utah (Cedar Band of Paiutes, Kanosh Band of Paiutes, Koosharem Band of Paiutes, Indian Peaks Band of Paiutes, and Shivwits Band of Paiutes); Skull Valley Band of Goshute Indians of Utah; and the Ute Indian Tribe of the Uintah & Ouray Reservation, Utah.

History and Description of the Remains

Around 1932, human remains representing, at minimum, one individual male between the ages of 35-50 were removed from a privately-owned field in Fillmore in Millard County, UT. The individual (UMNH148) was recovered during ploughing and shortly thereafter were transferred to the University of Utah. The Utah Museum of Natural History received control of the human remains in 1973. No known individuals were identified. No associated funerary objects were found.

An osteological analysis indicates that the individual is Native American. Based on the geographical location of the burial, the individual is most closely affiliated with the Kanosh Band of the Paiute Indian Tribe of Utah, who inhabited this area during the protohistoric and contact periods.

Determinations Made by the Utah Museum of Natural History

Officials of the Utah Museum of Natural History have determined that:

• Pursuant to 25 U.S.C. 3001(9), the human remains described in this notice represent the physical remains of one individual of Native American ancestry.

• Pursuant to 25 U.S.C. 3001(2), there is a relationship of shared group identity that can be reasonably traced between the Native American human remains and the Kanosh Band of the Paiute Indian Tribe of Utah.

Additional Requestors and Disposition

Lineal descendants or representatives of any Indian tribe or Native Hawaiian organization not identified in this notice that wish to request transfer of control of these human remains should submit a written request with information in support of the request to Dr. Lisbeth Louderback, Utah Museum of Natural History, 301 Wakara Way, Salt Lake City, UT 84108, telephone (801) 585-2634, email llouderback@nhmu.utah.edu, by May 25, 2016. After that date, if no additional requestors have come forward, transfer of control of the human remains to the Kanosh Band of the Paiute Indian Tribe of Utah may proceed.

The Utah Museum of Natural History is responsible for notifying the Confederated Tribes of the Goshute Reservation, Nevada and Utah; Northwestern Band of Shoshoni Nation of Utah (Washakie); Paiute Indian Tribe of Utah (Cedar Band of Paiutes, Kanosh Band of Paiutes, Koosharem Band of Paiutes, Indian Peaks Band of Paiutes, and Shivwits Band of Paiutes); Skull Valley Band of Goshute Indians of Utah; and the Ute Indian Tribe of the Uintah & Ouray Reservation, Utah that this notice has been published.

Dated: April 4, 2016.
Melanie O'Brien,
Manager, National NAGPRA Program.

[FR Doc. 2016-09513 Filed 4-22-16; 8:45 am]

BILLING CODE 4312-50-P